DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under the Office of Management and Budget (OMB) review, in compliance with the Paperwork Reduction Act (44 U.S.C. chapter 35). To request a copy of these documents, call the SAMHSA Reports Clearance Officer on (240) 276-0361.

Proposed Project: Rural Emergency Medical Services Training (EMS Training) Monitoring

SAMHSA will monitor program performance of its Rural Emergency Medical Services Training (EMS Training) grant program. The EMS Training grantees will recruit and train EMS personnel in rural areas with a particular focus on addressing mental and substance use disorders. To accomplish this, the EMS Training grantees conduct courses that qualify graduates to serve in an EMS agency, train EMS personnel as appropriate to maintain licenses and certifications and ensure EMS personnel are trained on mental and substance use disorders and care for people with such disorders in emergency situations.

The EMS Training grantees hold a variety of trainings. A training event is defined as a Rural EMS Training sponsored or co-sponsored event that focuses on teaching of a skill, knowledge, or experience for personal or professional development. Higher education classes must be included in this definition. Each course is considered as one training event. SAMHSA intends to use one (1) instrument for program monitoring of Rural EMS Training grantees activities as well as ongoing quality improvement, which is described below.

1. Rural EMS Training Program Monitoring Report: This form collects aggregated event information. This instrument asks eight (8) questions of EMS Training grant staff relating to the number of participants they recruited and have trained. It allows the grantees and SAMHSA to track the number of EMS personnel recruited, trained and number of certifications accomplished (See Attachment 1).

SAMHSA recognizes the need for emergency services in rural areas and the critical role EMS personnel serve across the country. The information collected is crucial to support SAMHSA in complying with Government Performance and Results Act (GPRA) reporting requirements and will inform future development of knowledge dissemination activities.

The chart below summarizes the annualized burden for this project.

Type of respondent | Number of respondents | Responses per respondent | Total responses | Hours per response | Total annual burden hours | Hourly wage cost | Total hour cost
Rural EMS Staff:
Rural EMS Training Program Monitoring Report | 27 | 2 | 54 | .17 | 9.18 | $19.92 | $182.87
Total | 27 | 2 | 54 | .17 | 9.18 | 19.92 | 182.87

Summary Table
Instrument | Number respondents | Responses per respondents | Burden hours
Rural EMS Training Program Monitoring Report | 27 | 2 | 9.18
Total | 27 | 2 | 9.18

Written comments and recommendations for the proposed information collection should be sent within 30 days of publication of this notice to www.reginfo.gov/public/do/PRAMain. Find this particular information collection by selecting “Currently under 30-day Review—Open for Public Comments” or by using the search function.

Carlos Graham,
Reports Clearance Officer.

[FR Doc. 2022-16907 Filed 8-5-22; 8:45 am]

BILLING CODE 4162-20-P